DEPARTMENT OF COMMERCE

National Oceanic and Atmospheric Administration

RIN: 0648-XE92

Fisheries of the South Atlantic and Gulf of Mexico; Southeast Data, Assessment, and Review (SEDAR); king mackerel; Public Meeting; Correction

AGENCY: National Marine Fisheries Service (NMFS), National Oceanic and Atmospheric Administration (NOAA), Commerce.

ACTION: Notice of change of location for SEDAR Assessment Workshop for South Atlantic and Gulf of Mexico king mackerel.

SUMMARY: The SEDAR assessments of the South Atlantic and Gulf of Mexico stocks of king mackerel will consist of a series of three workshops: a Data Workshop, an Assessment Workshop, and a Review Workshop. This is the sixteenth SEDAR. See SUPPLEMENTARY INFORMATION.

DATES: The Assessment Workshop will take place May 5-9, 2008. See SUPPLEMENTARY INFORMATION.

ADDRESSES: The Assessment Workshop will be held at the Doubletree Hotel Coconut Grove, 2649 S. Bayshore Drive, Miami, FL 33133; telephone: (305) 858-2500.

FOR FURTHER INFORMATION CONTACT: Julie Neer, SEDAR Coordinator, 4055 Faber Place Drive, Suite 201, North Charleston, SC 29405; telephone: (843) 571-4366.

SUPPLEMENTARY INFORMATION: The original notice published in the Federal Register on January 14, 2008 (73 FR 2223). The original noticed stated that the Assessment Workshop would be held at the Grand Bay Hotel. The location of that meeting has changed to the address listed above (see ADDRESSES).

May 5-9, 2008; SEDAR 16 Assessment Workshop

May 5, 2008: 1 p.m. - 8 p.m.; May 6-8, 2008: 8 a.m - 8 p.m.; May 9, 2008: 8 a.m. - 1 p.m.

All other previously-published information remains unchanged.

Special Accommodations

This meeting is physically accessible to people with disabilities. Requests for sign language interpretation or other auxiliary aids should be directed to the Council office (see ADDRESSES) at least 10 business days prior to each workshop.

Dated: April 1, 2008.
Tracey L. Thompson,
Acting Director, Office of Sustainable Fisheries, National Marine Fisheries Service.

[FR Doc. E8-6982 Filed 4-3-08; 8:45 am]

BILLING CODE 3510-22-S